DEPARTMENT OF TRANSPORTATION

Federal Aviation Administration

Notice of Intent To Rule on Application 13-11-C-00-MSP To Impose and Use the Revenue From a Passenger Facility Charge (PFC) at Minneapolis/St. Paul International Airport, Minneapolis, Minnesota

AGENCY: Federal Aviation Administration (FAA), DOT.

ACTION: Notice of intent to rule on application.

SUMMARY: The FAA proposes to rule and invites public comment on the application to impose and use the revenue from a PFC at Minneapolis/St. Paul International Airport under the provisions of the 49 U.S.C. 40117 and Part 158 of the Federal Aviation Regulations (14 CFR Part 158).

DATES: Comments must be received on or before March 27, 2014.

ADDRESSES: Comments on the application may be mailed or delivered in triplicate to the FAA at the following address: Christopher Hugunin, Manager, Federal Aviation Administration, Minneapolis Airports District Office, 6020 28th Avenue South, Room 102, Minneapolis, Minnesota 55450.

In addition, one copy of any comments submitted to the FAA must be mailed or delivered to Mr. Vinh Ngo, Accountant for the Metropolitan Airports Commission, at the following address: Metropolitan Airports Commission, 6040 28th Avenue South, Minneapolis, Minnesota, 55450.

Comments previously submitted as part of the air carriers and foreign air carriers consultation process under 14 CFR 158.23 and the public notice process under 14 CFR 158.24 do not have to be resubmitted in order to be considered by the FAA.

FOR FURTHER INFORMATION CONTACT: Christopher Hugunin, Manager, Federal Aviation Administration, Minneapolis Airports District Office, 6020 28th Avenue South, Room 102, Minneapolis, Minnesota 55450, (612) 253-4610.

Review of Application: A copy of the PFC application is available for examination, upon prior appointment during normal business hours at the Minneapolis Airports District Office, 6020 28th Avenue South, Room 102, Minneapolis, Minnesota 55450. Please call (612) 253-4610 to set up an appointment.

Additionally, a copy to examine can be found at the following location: Metropolitan Airports Commission, 6040 28th Avenue South, Minneapolis, Minnesota, 55450. Please contact Vinh Ngo at (612) 726-8160 to set up an appointment.

The application may also be viewed online at http://www.metroairports.org/Airport-Authority.aspx.

SUPPLEMENTARY INFORMATION: The FAA proposes to rule and invites public comment on the application to impose and use the revenue from a PFC at Minneapolis/St. Paul International Airport under the provisions of the 49 U.S.C. 40117 and Part 158 of the Federal Aviation Regulations (14 CFR Part 158).

On March 25, 2013, the Metropolitan Airports Commission submitted an application to impose and use revenues from a PFC at Minneapolis/St. Paul International Airport.

On April 25, 2013, the FAA determined that the application to impose and use the revenue from a PFC submitted by Metropolitan Airports Commission was not substantially complete within the requirements of section 158.25 of Part 158. The Metropolitan Airports Commission supplemented the application on January 29, 2014. The FAA will approve or disapprove the application, in whole or in part, no later than May 29, 2014.

The following is a brief overview of the application.

PFC application number: 13-11-C-00-MSP

Proposed charge effective date: February 1, 2019.

Proposed charge expiration date: January 1, 2020.

Level of the proposed PFC: $4.50.

Total estimated PFC revenue: $54,880,921.

Brief description of proposed project(s): Terminal 1—Concourse F Pedestrian Bridge Rehabilitation, Terminal 1—Passenger Bridge Replacements, Electronic Video Information Display Systems, Runway 30R Medium Intensity Approach Lighting System, Perimeter Fence and Gate Security Improvements, Taxiway C Extension, Runway 30L Engineered Materials Arresting System Replacements, Service Road Tunnel Improvements, Terminal 2—Security Checkpoint, Terminal 2—Passenger Boarding Bridge Replacement, Terminal 2—Orange Parking Ramp Skyway Link/Terminal Expansion, ARFF Station Number 2/Boiler Building Roof Replacements, and Airport Noise and Operations System Upgrades.

Class or classes of air carriers which the public agency has requested not be required to collect PFCs: Air taxi.

Issued in Des Plaines, Illinois on February 13, 2014.
Ignacio Flores,
Deputy Manager. Airports Division, Great Lakes Region.

[FR Doc. 2014-03925 Filed 2-24-14; 8:45 am]

BILLING CODE 4910-13-P